DEPARTMENT OF HEALTH AND HUMAN SERVICES

Administration for Children and Families

Proposed Information Collection Activity; Comment Request

Proposed Projects

Title: Child Support Document Exchange System (CSDES).

OMB No.: 0970-0435.

Description: The federal Office of Child Support Enforcement offers the Child Support Document Exchange System (CSDES) application within the OCSE Child Support Portal. The CSDES provides state agencies with a centralized, secure system for authorized users in state child support agencies to electronically exchange child support and spousal support case information with other state child support agencies. Using the CSDES benefits state child support agencies by reducing delays, costs, and barriers associated with interstate case processing, increasing state collections, improving document security, standardizing data sharing, increasing state participation, and improving case processing and overall child and spousal support outcomes.

The activities associated with the CSDES are authorized by (1) 42 U.S.C. 652(a)(7), which requires OCSE to provide technical assistance to the states to help them establish effective systems for collecting child support and spousal support, thereby helping state child support agencies fulfill the federal requirement to transmit requests for child support case information and provide requested information electronically to the greatest extent possible as required by 45 CFR 303.7(a)(5); and (2) 42 U.S.C. 666(c)(1), which requires state child support agencies to have expedited procedures to obtain and promptly share information with other state child support agencies.

Respondents: State Child Support Agencies.

Annual Burden Estimates
Instrument | Number of respondents | Number of responses per respondent | Average burden hours per response | Total burden hours
On-line Data Entry Screens | 52 | 4,272 | .0166667 (60 seconds) | 3,702.41

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2015-24863 Filed 9-30-15; 8:45 am]

BILLING CODE 4184-01-P